NATIONAL SCIENCE FOUNDATION

Special Emphasis Panel in Human Resource Development; Notice of Meeting

In accordance with the Federal Advisory Committee Act (Pub. L. 92-463, as amended), the National Science Foundation announces the following meeting.

Name and Committee Code: Special Emphasis Panel in Human Resource Development (#1199).

Date and Time: March 22-23, 2000; 8:30 am to 5 pm.

Place: National Science Foundation, 4201 Wilson Boulevard, Rooms 310, 380, and 390, Arlington, VA 22230.

Type of Meeting: Closed.

Contact Person: Drs. Margrete S. Kline and Ruta Sevo, Program Directors, Human Resource Development Division, Room 815, National Science Foundation, 4201 Wilson Boulevard, Arlington, VA 22230. Telephone: (703) 306-1637.

Purpose of Meeting: To provide advice and recommendations concerning proposals submitted to NSF for financial support.

Agenda: To review and evaluate formal proposals submitted to the Program for Gender Equity in Science, Mathematics, Engineering, and Technology Large Collaborative Projects/Planning Grants.

Reason for Closing: The proposals being reviewed include information of a proprietary or confidential nature, including technical information; financial data, such as salaries; and personal information concerning individuals associated with the proposals. These matters are exempt under 5 U.S.C. 552b(c), (4) and (6) of the Government in the Sunshine Act.

Dated: March 6, 2000.
Karen J. York,
Committee Management, Division of Human Resource Management.

[FR Doc. 00-5881 Filed 3-9-00; 8:45 am]

BILLING CODE 7555-01-M